DEPARTMENT OF EDUCATION

34 CFR Chapter III

[ED-2020-OSERS-0034]

Proposed Waiver and Extension of the Project Periods for Television Access Grants

AGENCY: Office of Special Education and Rehabilitative Services (OSERS), Department of Education.

ACTION: Proposed waiver and extension of project periods.

SUMMARY: The Secretary proposes to waive the requirements in the Education Department General Administrative Regulations that generally prohibit project periods exceeding five years and project period extensions involving the obligation of additional Federal funds. The proposed waiver and extension would enable five projects under Catalog of Federal Domestic Assistance (CFDA) number 84.327C to receive funding for an additional period, not to exceed September 30, 2021.

DATES: We must receive your comments on or before May 4, 2020.

ADDRESSES: Submit your comments through the Federal eRulemaking Portal or via postal mail, commercial delivery, or hand delivery. We will not accept comments submitted by fax or by email or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under “How to use Regulations.gov” in the Help section.

• Postal Mail, Commercial Delivery, or Hand Delivery: If you mail or deliver your comments about the proposed waiver and extension, address them to Glinda Hill, U.S. Department of Education, 400 Maryland Avenue SW, Room 5173, Potomac Center Plaza, Washington, DC 20202-5076.

Privacy Note: The Department's policy is to make all comments received from members of the public available for public viewing in their entirety on the Federal eRulemaking Portal at www.regulations.gov. Therefore, commenters should be careful to include in their comments only information that they wish to make publicly available.

FOR FURTHER INFORMATION CONTACT: Glinda Hill, U.S. Department of Education, 400 Maryland Avenue SW, Room 5173, Potomac Center Plaza, Washington, DC 20202-5076. Telephone: 202-245-7376. Email: Glinda.Hill@ed.gov.

If you use a telecommunications device for the deaf (TDD) or a text telephone (TTY), call the Federal Relay Service (FRS), toll free, at 1-800-877-8339.

SUPPLEMENTARY INFORMATION:

Invitation to Comment: We invite you to submit comments regarding this proposed waiver and extension. To ensure that your comments have maximum effect in developing the final waiver and extension, we urge you to identify clearly the specific grantee or grantees (listed in the table under the Background section) that each comment addresses.

We invite you to assist us in complying with the specific requirements of Executive Orders 12866, 13563, and 13771 and their overall requirement of reducing regulatory burden that might result from these proposed waivers and extensions. Please let us know of any further ways we could reduce potential costs or increase potential benefits while preserving the effective and efficient administration of the program.

During and after the comment period, you may inspect all public comments about this proposed waiver and extension of the project period by accessing Regulations.gov. You may also inspect all public comments about this proposal in Room 5173, 550 12th Street SW, Washington, DC, between the hours of 8:30 a.m. and 4:00 p.m., Eastern Time, Monday through Friday of each week, except Federal holidays.

Assistance to Individuals With Disabilities in Reviewing the Rulemaking Record: On request, we will provide an appropriate accommodation or auxiliary aid to an individual with a disability who needs assistance to review the comments or other documents in the public rulemaking record for this proposed waiver and extension. If you want to schedule an appointment for this type of aid, please contact the person listed under FOR FURTHER INFORMATION CONTACT.

Background

On January 14, 2015, the Department of Education (Department) published in the Federal Register (80 FR 1900) a notice inviting applications for five video description and captioning projects for fiscal year (FY) 2015 under the Educational Technology, Media, and Materials program, authorized under sections 674 and 681(d) of the Individuals with Disabilities Education Act (IDEA).

The purpose of the video description and captioning projects is to improve the learning opportunities for children with disabilities by providing access to television programming through high-quality video description and captioning. These projects support access to widely available television programs that are appropriate for use in the classroom setting and are not otherwise required to be captioned or described by the Federal Communications Commission (FCC). A table listing the FY 2015 video description and captioning projects follows.

FY 2015 Awards under CFDA 84.327C | Grantee project name
H327C150001 | Companion Enterprise, Inc., Tulsa, OK. Project: Narrative Television Network.
H327C150007 | Bridge Multimedia, Inc., New York, NY. Project: Video Description for the Next Generation.
H327C150008 | Bridge Multimedia, Inc., New York, NY. Project: Standards Aligned Video Description.
H327C150009 | Closed Caption Latina, Corp., Winter Springs, FL. Project: Captions and Video Description: Educational Tools for Hispanic Children with Disabilities.
H327C170002 (Transferred from H327C150003) | Captionmax LLC, Minneapolis, MN. Project: Television Access for Preschool and Elementary School Children.

The Office of Special Education Programs (OSEP) also funds one project under CFDA 84.327N, Educational Technology, Media, and Materials for Individuals with Disabilities—Captioned and Described Educational Media, the Center for the Described and Captioned Media Program (DCMP; 84.327N). The purpose of the DCMP is to establish and operate an Accessible Learning Center that would oversee the selection, acquisition, captioning, video description, and distribution of educational media through a free loan service for eligible users. The video description and captioning projects are required to use the DCMP's portal as a repository so that eligible users can easily access the video described and captioned media. The DCMP's project period started on October 1, 2016, and will end on September 30, 2021.

Waivers and Extensions

OSEP proposes to extend the five video description and captioning projects to align the projects' end dates with that of the DCMP, which will receive its final year of funding in FY 2020 and end on September 30, 2021. OSEP does not believe that it would be in the public interest to run a competition for CFDA 84.327C in FY 2020. Aligning the ends of these project periods would allow the Department to better coordinate the Description and Captioning program. Aligning the video description and captioning projects' periods with the DCMP's project period also would improve coordination across projects, allow for more efficient use of the funding available to support these activities, and ensure easier access to a wider range and increasing numbers of captioned and described educational media and programming.

For these reasons, the Secretary proposes to waive the requirements in 34 CFR 75.250, which prohibit project periods exceeding five years, as well as the requirements in 34 CFR 75.261(a) and (c)(2), which allow the extension of a project period only if the extension does not involve the obligation of additional Federal funds. The waiver would allow the Department to issue a one-time FY 2020 continuation award to each of the five currently funded 84.327C projects.

Any activities carried out during the year of this continuation award must be consistent with, or a logical extension of, the scope, goals, and objectives of the grantees' applications as approved in the FY 2015 competition. The requirements for continuation awards are set forth in 34 CFR 75.253.

Regulatory Flexibility Act Certification

The Secretary certifies that the proposed waiver and extension of the project period would not have a significant economic impact on a substantial number of small entities. The only entities that would be affected by the proposed waiver and extension of the project period are the current grantees.

The Secretary certifies that the proposed waiver and extension would not have a significant economic impact on these entities, because the extension of an existing project period imposes minimal compliance costs, and the activities required to support the additional year of funding would not impose additional regulatory burdens or require unnecessary Federal supervision.

Paperwork Reduction Act of 1995

This notice of proposed waiver and extension of the project period does not contain any information collection requirements.

Intergovernmental Review

These programs are subject to Executive Order 12372 and the regulations in 34 CFR part 79. One of the objectives of the Executive order is to foster an intergovernmental partnership and a strengthened federalism. The Executive order relies on processes developed by State and local governments for coordination and review of proposed Federal financial assistance. This document provides early notification of our specific plans and actions for this program.

Accessible Format: Individuals with disabilities can obtain this document in an accessible format (e.g., Braille, large print, audiotape, or compact disc) on request to the contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Mark Schultz,
Commissioner, Rehabilitation Services Administration. Delegated the authority to perform the functions and duties of the Assistant Secretary for the Office of Special Education and Rehabilitative Services.

[FR Doc. 2020-06752 Filed 4-1-20; 8:45 am]

BILLING CODE 4000-01-P